DEPARTMENT OF COMMERCE

International Trade Administration

[A-570-847]

Persulfates from the People's Republic of China: Continuation of Antidumping Duty Order

AGENCY: Import Administration, International Trade Administration, Department of Commerce.

SUMMARY: As a result of the determinations by the Department of Commerce (“Department”) and the International Trade Commission (“ITC”) that revocation of the existing antidumping duty order on persulfates from the People's Republic of China (“PRC”) would likely lead to continuation or recurrence of dumping and material injury to an industry in the United States, the Department is publishing this notice of continuation of the antidumping duty (“AD”) order.

EFFECTIVE DATE: April 21, 2008.

FOR FURTHER INFORMATION CONTACT: Charles Riggle or Lilit Astvatsatrian, AD/CVD Operations, Import Administration, International Trade Administration, U.S. Department of Commerce, 14th Street and Constitution Avenue, NW, Washington, DC 20230; telephone: 202-482-0650 or 202-482-6412, respectively.

SUPPLEMENTARY INFORMATION:

Background

On November 1, 2007, the Department published the notice of initiation of the sunset review of the antidumping duty order on persulfates from the PRC pursuant to section 751(c) of the Tariff Act of 1930, as amended (“the Act”). See Initiation of Five-year (“Sunset”) Reviews, 72 FR 61861 (November 1, 2007) (“Initiation Notice”); see also, Amended Antidumping Duty Order: Persulfates From the People's Republic of China, 62 FR 39212 (July 22, 1997) (“Order”). As a result of its review, the Department found that revocation of the AD order would likely lead to continuation or recurrence of dumping and notified the ITC of the margins likely to prevail were the order revoked. See Persulfates from the People’s Republic of China: Notice of Final Results of Expedited Sunset Review of Antidumping Duty Order, 73 FR 11868 (March 5, 2008) (“Persulfates Final”). On March 31, 2008, the ITC determined, pursuant to section 751(c) of the Act, that revocation of the AD order on persulfates from the PRC would likely lead to continuation or recurrence of material injury to an industry in the United States within a reasonably foreseeable time. See USITC Publication 3988 Inv. No. 731-TA- 749 (Review) (March 2007).

Scope of the Order

The products covered by this order are persulfates, including ammonium, potassium, and sodium persulfates. The chemical formula for these persulfates are, respectively, (NH4)2S2O8, K2S2O8, and Na2S2O8. Potassium persulfates are currently classifiable under subheading 2833.40.10 of the Harmonized Tariff Schedule of the United States (“HTSUS”). Sodium persulfates are classifiable under HTSUS subheading 2833.40.20. Ammonium and other persulfates are classifiable under HTSUS subheadings 2833.40.50 and 2833.40.60. Although the HTSUS subheadings are provided for convenience and customs purposes, the written description of the scope of this order is dispositive.

Continuation of Order

As a result of the determinations by the Department and the ITC that revocation of the AD order on persulfates from the PRC would likely lead to continuation or recurrence of dumping and material injury to an industry in the United States, pursuant to section 751(d)(2) of the Act, the Department hereby orders the continuation of the AD order on persulfates from the PRC. U.S. Customs and Border Protection will continue to collect antidumping duty cash deposits at the rates in effect at the time of entry for all imports of subject merchandise. This review covers imports from all manufacturers and exporters of persulfates from the PRC.

The effective date of continuation of this AD order will be the date of publication in the Federal Register of this Continuation Notice. Pursuant to section 751(c)(2) of the Act, the Department intends to initiate the next five-year review of this order not later than March 2013.

This five-year or “sunset” review and notice are in accordance with section 751(c) of the Act and published pursuant to section 777(i)(1) of the Act.

Dated: April 11, 2008.
David M. Spooner,
Assistant Secretary for Import Administration.

[FR Doc. E8-8562 Filed 4-18-08; 8:45 am]

BILLING CODE 3510-DR-S